DEPARTMENT OF TRANSPORTATION

Federal Aviation Administration

14 CFR Part 39

[Docket No. 2003-NM-52-AD]

RIN 2120-AA64

Airworthiness Directives; Airbus Model A300 B2 Series Airplanes; Model A300 B4 Series Airplanes; and Model A300 B4-600, B4-600R, C4 605R Variant F, and F4-600R (Collectively Called A300-600) Series Airplanes

AGENCY: Federal Aviation Administration, DOT.

ACTION: Notice of proposed rulemaking (NPRM).

SUMMARY: This document proposes the adoption of a new airworthiness directive (AD) that is applicable to all Airbus Model A300 B2 series airplanes; Model A300 B4 series airplanes; and Model A300 B4-600, B4-600R, C4 605R Variant F, and F4-600R (collectively called A300-600) series airplanes. This proposal would require inspection of the label of certain slat friction brakes for correct label wording, and corrective actions if necessary. This proposal also provides for optional terminating actions for certain repetitive corrective actions. These actions are necessary to find and fix incorrect labels on the housings of the slat friction brakes, which may lead to the use of unapproved oil in the brakes. Use of unapproved oil could affect the efficiency of the brakes and lead to failure of the brakes to maintain proper slat orientation in the event of a rupture of the slat drive shaft, consequent uncommanded retraction of the slat, and reduced controllability of the airplane. These actions are intended to address the identified unsafe condition.

DATES: Comments must be received by April 23, 2004.

ADDRESSES: Submit comments in triplicate to the Federal Aviation Administration (FAA), Transport Airplane Directorate, ANM-114, Attention: Rules Docket No. 2003-NM-52-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-52-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-52-AD.” The postcard will be date stamped and returned to the commenter.

Availability of NPRMs

Any person may obtain a copy of this NPRM by submitting a request to the FAA, Transport Airplane Directorate, ANM-114, Attention: Rules Docket No. 2003-NM-52-AD, 1601 Lind Avenue, SW., Renton, Washington 98055-4056.

Discussion

The Direction Générale de l'Aviation Civile (DGAC), which is the airworthiness authority for France, notified the FAA that an unsafe condition may exist on certain Airbus Model A300 B2 series airplanes; Model A300 B4 series airplanes; and Model A300 B4-600, B4-600R, C4 605R Variant F, and F4-600R (collectively called A300-600) series airplanes. The DGAC advises that one operator reported that the oil of the slat friction brakes was replaced with oil not qualified for use on these components; consequently the brakes had to be replaced before the next flight. Further, the brake vendor shipped spares of brakes among which was one with an incorrect label. Additionally, there is no traceability of how many brake units have been released with an incorrect label. The incorrect label, if not corrected, may lead to the use of unapproved oil in the brake unit, which could affect the efficiency of the brake and lead to failure of the brake to maintain proper slat orientation in the event of a rupture of the slat drive shaft. This failure could result in uncommanded retraction of the slat and consequent reduced controllability of the airplane.

Explanation of Relevant Service Information

Airbus has issued All Operators Telex (AOT) 27A0199, Revision 01, dated February 5, 2003 (for Model A300 B2 and A300 B4 series airplanes); and AOT 27A6055, Revision 01, dated February 5, 2003 (for Model A300-600 series airplanes); which describe procedures for inspection of the label on the housing of the slat friction brake for correct label wording, and corrective actions if necessary. The corrective actions include replacement of incorrect labels with new labels, replacement of brake oil with Exxon 2120, repetitive verification of correct operational torque of the brakes, and replacement of the brakes with new brakes; as applicable. The AOTs also describe procedures for analysis of suspect brake oil and replacement of brakes with new brakes, which, if accomplished, would eliminate the need for certain repetitive corrective actions. Accomplishment of the actions specified in the applicable AOT is intended to adequately address the identified unsafe condition. The DGAC classified these AOTs as mandatory and issued French airworthiness directive 2003-48(B), effective February 5, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable AOT described previously, except as described below. The proposed AD also provides for optional terminating actions for certain repetitive corrective actions.

Difference Between Proposed Rule and Referenced AOTs

Operators should note that, although the referenced AOTs describe procedures for submitting oil drained from the friction brakes to the brake manufacturer for analysis, this proposed AD would not require that the manufacturer be the sole source of such analysis.

Cost Impact

The FAA estimates that 120 airplanes of U.S. registry would be affected by this proposed AD, that it would take approximately 1 work hour to accomplish the proposed label inspection, and that the average labor rate is $65 per work hour. Based on these figures, the cost impact of the proposed AD on U.S. operators is estimated to be $7,800, or $65 per airplane.

The cost impact figure discussed above is based on assumptions that no operator has accomplished any of the proposed requirements of this AD action, and that no operators would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-52-AD.

Applicability: All Model A300 B2 series airplanes; Model A300 B4 series airplanes; and Model A300 B4-600, B4-600R, C4 605R Variant F, and F4-600R (collectively called A300-600) series airplanes; certificated in any category.

Compliance: Required as indicated, unless accomplished previously.

To prevent the possible use of unqualified oil in the slat friction brakes, which could cause failure of the brakes to maintain proper slat orientation in the event of a rupture of the slat drive shaft, consequent uncommanded retraction of the slats, and reduced controllability of the airplane, accomplish the following:

All Operators Telex (AOT) Reference

(a) The term AOT as used in this AD means paragraph 4.3, “Description,” of the following, as applicable:

(1) For Model A300 B2 and A300 B4 series airplanes: Airbus AOT 27A0199, Revision 01, dated February 5, 2003.

(2) For Model A300 B4-600, B4-600R, C4-605R Variant F, and F4-600R (collectively called A300-600) series airplanes: Airbus AOT 27A6055, Revision 01, dated February 5, 2003.

Inspection

(b) Within 3 weeks from the effective date of this AD, perform a general visual inspection of the label on the housings of the slat friction brakes for correct wording, in accordance with the applicable AOT.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(c) If the wording of the label is found to be incorrect during the inspection required by paragraph (b) of this AD, prior to further flight, remove the label then perform the actions specified in paragraphs (c)(1), (c)(2), and (c)(3) of this AD in accordance with the applicable AOT.

(1) Within 500 flight hours after removing the incorrect label, apply a correctly worded label to the housing.

(2) Prior to further flight after removing the label, drain the friction brake and refill with Exxon 2120 oil.

(3) Prior to further flight after removing the label, verify the torque of the friction brake.

(i) If the torque is within the limits specified in the applicable AOT, repeat the torque verification thereafter at intervals not to exceed 500 flight hours, until the optional terminating actions specified in paragraph (d) of this AD have been accomplished.

(ii) If the torque is not within the limits specified in the applicable AOT, prior to further flight, replace the friction brake with a new brake in accordance with the applicable AOT. Accomplishment of this replacement terminates the requirement for the repetitive torque verification for that brake.

Optional Terminating Actions

(d) Accomplishment of either paragraph (d)(1) or (d)(2) of this AD terminates the repetitive torque verification required by paragraph (c)(3)(i) of this AD.

(1) Analyze the oil drained from the friction brake.

(i) If the oil is Exxon 2120, no further action is required by this AD.

(ii) If the oil is not Exxon 2120, prior to further flight, replace the friction brake as specified in paragraph (d)(2) of this AD.

(2) Replace the friction brake with a new brake in accordance with the applicable AOT.

Analysis of Brake Oil

(e) Although the referenced AOTs describe procedures for submitting oil drained from the friction brakes to the brake manufacturer for analysis, this AD does not require that the manufacturer be the sole source of such analysis.

Alternative Methods of Compliance

(f) In accordance with 14 CFR 39.19, the Manager, International Branch, ANM-116, FAA, is authorized to approve alternative methods of compliance for this AD.

Note 2: The subject of this AD is addressed in French airworthiness directive 2003-48(B), dated February 5, 2003.

Issued in Renton, Washington, on March 15, 2004.
Kevin M. Mullin,
Acting Manager, Transport Airplane Directorate, Aircraft Certification Service.

[FR Doc. 04-6502 Filed 3-23-04; 8:45 am]

BILLING CODE 4910-13-P